DEPARTMENT OF DEFENSE

Office of the Secretary

President's Information Technology Advisory Committee (PITAC)

ACTION: Notice of meeting.

SUMMARY: PITAC's Subcommittee on Computational Science will provide an update of its activities. PITAC will discuss the Subcommittee's presentation and provide feedback for use in guiding the Subcommittee's work. There will be an update on the dissemination of PITAC's report Revolutionizing Health Care Through Information Technology. The latter portion of the meeting focuses on a presentation and deliberation on PITAC's draft report on cyber security. Public input will be solicited during a public comment period. A small fraction of the meeting time may be allocated for other PITAC updates at the discretion of the co-chairs and the designated Federal officer.

DATES: Wednesday, January 12, 2005, 9 a.m.-3 p.m. eastern time.

ADDRESSES: National Science Foundation, Stafford I, Room 1235, 4201 Wilson Boulevard, Arlington, Virginia 22230.

SUPPLEMENTARY INFORMATION: This meeting will also be held via a teleconference and the Internet through the WebEx application. Information about registration for in-person or remote participation will be posted at PITAC's Web site (http://www.nitrd.gov/pitac) by December 23. Meeting information may also be obtained by calling 703-292-4873. The agenda for the meeting will be posted at PITAC's Web site when it becomes available.

FOR FURTHER INFORMATION: Contact Alan Inouye at the National Coordination Office for Information Technology Research and Development at 703-292-4873 or by e-mail at inouye@nitrd.gov.

Dated: December 21, 2004.
Jeannette Owings-Ballard,
OSD Federal Register Liaison Officer, Department of Defense.

[FR Doc. 04-28259 Filed 12-27-04; 8:45 am]

BILLING CODE 5001-06-M